DEPARTMENT OF HEALTH AND HUMAN SERVICES

National Institutes of Health

Prospective Grant of an Exclusive Patent License: Size-Dependent Brain and Lymphatic Distribution of Macromolecular Drug Delivery Platform

Correction

In notice document 2025-06878 beginning on page 16878 in the issue of Tuesday, April 22, 2025, make the following correction:

On page 16878, in the second column, in the fifth line from the bottom, “April 22, 2025” should read “May 7, 2025”.

[FR Doc. C1-2025-06878 Filed 5-1-25; 8:45 am]

BILLING CODE 0099-10-D